GOVERNMENT ACCOUNTABILITY OFFICE

Request for Nominations for the Board of Governors of the Patient-Centered Outcomes Research Institute (PCORI)

AGENCY: Government Accountability Office (GAO).

ACTION: Request for letters of nomination and resumes.

SUMMARY: The Patient Protection and Affordable Care Act gave the Comptroller General of the United States responsibility for appointing up to 21 members to the Board of Governors of the Patient-Centered Outcomes Research Institute. In addition, the Directors of the Agency for Healthcare Research and Quality and the National Institutes of Health, or their designees, are members of the Board. As the result of terms ending in September 2024, GAO is accepting nominations in the following category: a representative of a Federal health program or agency. Nominations should be sent to the email address listed below. Acknowledgement of receipt will be provided within a week of submission.

DATES: Letters of nomination and resumes should be submitted no later than May 3, 2024, to ensure adequate opportunity for review and consideration of nominees prior to appointment.

ADDRESSES: Submit letters of nomination and resumes to PCORI@gao.gov. Include PCORI nominations in the subject line of the email.

FOR FURTHER INFORMATION CONTACT: Ray Sendejas at (202) 512-7113 or SendejasR@gao.gov if you do not receive an acknowledgement or need additional information. For general information, contact GAO's Office of Public Affairs, (202) 512-4800.

Authority: 42 U.S.C. 1320e; 26 U.S.C. 9511.

Gene L. Dodaro,
Comptroller General of the United States.

[FR Doc. 2024-06777 Filed 3-29-24; 8:45 am]

BILLING CODE 1610-02-P